DEPARTMENT OF ENERGY

Federal Energy Regulatory Commission

Combined Notice of Filings # 1

Take notice that the Commission received the following electric rate filings:

Docket Numbers: ER24-227-001.

Applicants: RPC Power, LLC.

Description: Tariff Amendment: Response to Deficiency Letter—A&R MBR Tariff Application (ER24-227-) to be effective 1/20/2024.

Filed Date: 1/19/24.

Accession Number: 20240119-5095.

Comment Date: 5 p.m. ET 2/9/24.

Docket Numbers: ER24-813-001.

Applicants: Public Service Company of New Mexico.

Description: Tariff Amendment: Supplemental Information to Revise Depreciation Rates to be effective 1/3/2024.

Filed Date: 1/19/24.

Accession Number: 20240119-5067.

Comment Date: 5 p.m. ET 2/9/24.

Docket Numbers: ER24-944-000.

Applicants: PJM Interconnection, L.L.C.

Description: 205(d) Rate Filing: Amended ISA, Service Agreement No. 6471; Queue No. AE1-020 to be effective 3/18/2024.

Filed Date: 1/18/24.

Accession Number: 20240118-5151.

Comment Date: 5 p.m. ET 2/8/24.

Docket Numbers: ER24-945-000.

Applicants: Cottontail Solar 6, LLC.

Description: Baseline eTariff Filing: Reactive Power Compensation Baseline Filing to be effective 2/26/2024.

Filed Date: 1/18/24.

Accession Number: 20240118-5152.

Comment Date: 5 p.m. ET 2/8/24.

Docket Numbers: ER24-946-000.

Applicants: Desert Sunlight 250, LLC.

Description: 205(d) Rate Filing: Desert Sunlight 250, LLC A&R Co-Tenancy and Shared Facilities Agreement to be effective 1/19/2024.

Filed Date: 1/18/24.

Accession Number: 20240118-5158.

Comment Date: 5 p.m. ET 2/8/24.

Docket Numbers: ER24-947-000.

Applicants: PJM Interconnection, L.L.C.

Description: 205(d) Rate Filing: Amended WMPA, Service Agreement No, 7005; Queue No. AG1-099 to be effective 3/18/2024.

Filed Date: 1/18/24.

Accession Number: 20240118-5161.

Comment Date: 5 p.m. ET 2/8/24.

Docket Numbers: ER24-948-000.

Applicants: PJM Interconnection, L.L.C.

Description: 205(d) Rate Filing: Amended ISA, Service Agreement No. 4322; Queue No. Z1-036 to be effective 3/18/2024.

Filed Date: 1/18/24.

Accession Number: 20240118-5166.

Comment Date: 5 p.m. ET 2/8/24.

Docket Numbers: ER24-949-000.

Applicants: PacifiCorp.

Description: 205(d) Rate Filing: Colstrip Trans System LGIA—Concurrence Clearwater Energy Rev 2 to be effective 12/22/2023.

Filed Date: 1/19/24.

Accession Number: 20240119-5007.

Comment Date: 5 p.m. ET 2/9/24.

Docket Numbers: ER24-950-000.

Applicants: Southern California Edison Company.

Description: 205(d) Rate Filing: 3rd Amended LGIA Desert Sunlight Project TOT198/TOT199 SA #86 to be effective 1/20/2024.

Filed Date: 1/19/24.

Accession Number: 20240119-5032.

Comment Date: 5 p.m. ET 2/9/24.

Docket Numbers: ER24-951-000.

Applicants: New York Independent System Operator, Inc.

Description: 205(d) Rate Filing: NYISO 205: Interconnection and Transmission Study Coordination to be effective 3/20/2024.

Filed Date: 1/19/24.

Accession Number: 20240119-5064.

Comment Date: 5 p.m. ET 2/9/24.

Docket Numbers: ER24-952-000.

Applicants: Alabama Power Company, Georgia Power Company, Mississippi Power Company.

Description: 205(d) Rate Filing: Alabama Power Company submits tariff filing per 35.13(a)(2)(iii: Horus Georgia 2 (Coweta Solar) LGIA Filing to be effective 1/10/2024.

Filed Date: 1/19/24.

Accession Number: 20240119-5085.

Comment Date: 5 p.m. ET 2/9/24.

Docket Numbers: ER24-953-000.

Applicants: Alabama Power Company, Georgia Power Company, Mississippi Power Company.

Description: Tariff Amendment: Alabama Power Company submits tariff filing per 35.15: SE Solar I (Cedartown Solar) LGIA Termination Filing to be effective 1/19/2024.

Filed Date: 1/19/24.

Accession Number: 20240119-5087.

Comment Date: 5 p.m. ET 2/9/24.

Docket Numbers: ER24-954-000.

Applicants: Alabama Power Company, Power Company, Mississippi Power Company.

Description: Tariff Amendment: Alabama Power Company submits tariff filing per 35.15: SE Solar II (Lumberton Solar) LGIA Termination Filing to be effective 1/19/2024.

Filed Date: 1/19/24.

Accession Number: 20240119-5088.

Comment Date: 5 p.m. ET 2/9/24.

Docket Numbers: ER24-955-000.

Applicants: Alabama Power Company, Georgia Power Company, Mississippi Power Company.

Description: Tariff Amendment: Alabama Power Company submits tariff filing per 35.15: SE Solar I (Berry Solar) LGIA Termination Filing to be effective 1/19/2024.

Filed Date: 1/19/24.

Accession Number: 20240119-5089.

Comment Date: 5 p.m. ET 2/9/24.

Docket Numbers: ER24-956-000.

Applicants: New York Independent System Operator, Inc.

Description: 205(d) Rate Filing: NYISO 205 Filing: Amnd Development Agreement NYISO, LS Power, NYPA (SA2514) to be effective 12/28/2023.

Filed Date: 1/19/24.

Accession Number: 20240119-5093.

Comment Date: 5 p.m. ET 2/9/24.

Docket Numbers: ER24-957-000.

Applicants: Franklin Solar LLC.

Description: Baseline eTariff Filing: Market-Based Rate Application to be effective 3/20/2024.

Filed Date: 1/19/24.

Accession Number: 20240119-5099.

Comment Date: 5 p.m. ET 2/9/24.

Docket Numbers: ER24-958-000.

Applicants: PJM Interconnection, L.L.C.

Description: 205(d) Rate Filing: Amendment to 4 Service Agreements re: FirstEnergy Reorganization to be effective 1/1/2024.

Filed Date: 1/19/24.

Accession Number: 20240119-5106.

Comment Date: 5 p.m. ET 2/9/24.

Docket Numbers: ER24-959-000.

Applicants: Public Service Company of Colorado.

Description: 205(d) Rate Filing: 2024-01-19—TSGT—Const Mirage to Saguache—749—Concurrence to be effective 12/1/2023.

Filed Date: 1/19/24.

Accession Number: 20240119-5155.

Comment Date: 5 p.m. ET 2/9/24.

Docket Numbers: ER24-960-000.

Applicants: Public Service Company of Colorado.

Description: 205(d) Rate Filing: 2024-01-19—TSGT Const Plaza to Stanley—759—Concurrence to be effective 12/1/2023.

Filed Date: 1/19/24.

Accession Number: 20240119-5158.

Comment Date: 5 p.m. ET 2/9/24.

Docket Numbers: ER24-961-000.

Applicants: Public Service Company of Colorado.

Description: 205(d) Rate Filing: 2024-01-19 TSGT Const San Luis to Waverly—760—Concurrence to be effective 12/1/2023.

Filed Date: 1/19/24.

Accession Number: 20240119-5160.

Comment Date: 5 p.m. ET 2/9/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 19, 2024.
Debbie-Anne A. Reese,
Acting Secretary.

[FR Doc. 2024-01465 Filed 1-24-24; 8:45 am]

BILLING CODE 6717-01-P